DEPARTMENT OF TRANSPORTATION

Federal Aviation Administration

14 CFR Part 97

[Docket No. 31036; Amdt. No. 3660]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective September 8, 2015. The compliance date for each SIAP, associated Takeoff Minimums, and ODP is specified in the amendatory provisions.

The incorporation by reference of certain publications listed in the regulations is approved by the Director of the Federal Register as of September 8, 2015.

ADDRESSES: Availability of matter incorporated by reference in the amendment is as follows:

For Examination

1. U.S. Department of Transportation, Docket Ops-M30, 1200 New Jersey Avenue SE., West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on August 28, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
15-Oct-15 | MI | Owosso | Owosso Community | 4/0425 | 08/06/15 | RNAV (GPS) RWY 29, Amdt 1A.
15-Oct-15 | MI | Owosso | Owosso Community | 4/0426 | 08/06/15 | VOR/DME RWY 29, Amdt 1A.
15-Oct-15 | VA | Richmond | Richmond Executive-Chesterfield County | 5/0091 | 08/06/15 | RNAV (GPS) RWY 15, Amdt 1B.
15-Oct-15 | VA | Richmond | Richmond Executive-Chesterfield County | 5/0092 | 08/06/15 | ILS OR LOC RWY 33, Amdt 2C.
15-Oct-15 | VA | Richmond | Richmond Executive-Chesterfield County | 5/0093 | 08/06/15 | RNAV (GPS) RWY 33, Orig-C.
15-Oct-15 | OK | Oklahoma City | Wiley Post | 5/0523 | 08/13/15 | ILS OR LOC RWY 17L, Amdt 11.
15-Oct-15 | OK | Oklahoma City | Wiley Post | 5/0524 | 08/13/15 | ILS OR LOC RWY 35R, Orig.
15-Oct-15 | OK | Oklahoma City | Wiley Post | 5/0525 | 08/13/15 | RNAV (GPS) RWY 35R, Orig.
15-Oct-15 | CA | San Martin | South County Arpt Of Santa Clara County | 5/0904 | 08/13/15 | RNAV (GPS) RWY 32, Orig-A.
15-Oct-15 | CA | San Martin | South County Arpt Of Santa Clara County | 5/0905 | 08/13/15 | Takeoff Minimums and (Obstacle) DP, Amdt 1.
15-Oct-15 | MT | Choteau | Choteau | 5/0915 | 08/13/15 | NDB OR GPS RWY 23, Orig-B.
15-Oct-15 | IN | Griffith | Griffith-Merrillville | 5/1158 | 08/13/15 | VOR RWY 8, Amdt 8.
15-Oct-15 | KS | Junction City | Freeman Field | 5/1341 | 08/17/15 | RNAV (GPS) RWY 36, Orig-C.
15-Oct-15 | KS | Junction City | Freeman Field | 5/1364 | 08/17/15 | NDB B, Amdt 5.
15-Oct-15 | TX | Falfurrias | Brooks County | 5/1480 | 08/13/15 | RNAV (GPS) RWY 35, Orig.
15-Oct-15 | SD | Sturgis | Sturgis Muni | 5/1485 | 08/13/15 | Takeoff Minimums and (Obstacle) DP, Amdt 1.
15-Oct-15 | GA | Atlanta | Dekalb-Peachtree | 5/1788 | 08/17/15 | VOR/DME RWY 21L, Amdt 2B.
15-Oct-15 | OK | Ardmore | Ardmore Downtown Executive | 5/1987 | 08/06/15 | RNAV (GPS) RWY 35, Orig-A.
15-Oct-15 | CA | Oroville | Oroville Muni | 5/2201 | 08/12/15 | RNAV (GPS) RWY 2, Orig-B.
15-Oct-15 | CA | Oroville | Oroville Muni | 5/2202 | 08/12/15 | VOR-A, Amdt 7B.
15-Oct-15 | MT | Dillon | Dillon | 5/2283 | 08/06/15 | Takeoff Minimums and (Obstacle) DP, Amdt 3.
15-Oct-15 | AK | Kotzebue | Ralph Wien Memorial | 5/2312 | 08/12/15 | RNAV (GPS) RWY 27, Orig.
15-Oct-15 | AK | Kotzebue | Ralph Wien Memorial | 5/2313 | 08/12/15 | ILS OR LOC/DME RWY 9, Orig.
15-Oct-15 | AK | Kotzebue | Ralph Wien Memorial | 5/2314 | 08/12/15 | RNAV (GPS) RWY 9, Orig.
15-Oct-15 | AK | Kotzebue | Ralph Wien Memorial | 5/2316 | 08/12/15 | VOR/DME RWY 9, Orig.
15-Oct-15 | AK | Kotzebue | Ralph Wien Memorial | 5/2317 | 08/12/15 | VOR RWY 9, Orig.
15-Oct-15 | AK | Big Lake | Big Lake | 5/2398 | 08/06/15 | RNAV (GPS) RWY 7, Amdt 1A.
15-Oct-15 | CA | Palo Alto | Palo Alto Arpt Of Santa Clara Co | 5/2423 | 08/17/15 | VOR/DME RWY 31, Orig-C.
15-Oct-15 | CA | Palo Alto | Palo Alto Arpt Of Santa Clara Co | 5/2424 | 08/17/15 | Takeoff Minimums and (Obstacle) DP, Orig-A.
15-Oct-15 | AK | Yakutat | Yakutat | 5/3056 | 08/17/15 | RNAV (GPS) RWY 2, Amdt 3A.
15-Oct-15 | IL | Belleville | Scott AFB/MidAmerica | 5/3238 | 08/20/15 | ILS OR LOC RWY 32R, Orig-F.
15-Oct-15 | IA | Le Mars | Le Mars Muni | 5/3889 | 08/20/15 | RNAV (GPS) RWY 18, Amdt 1A.
15-Oct-15 | IA | Le Mars | Le Mars Muni | 5/3890 | 08/20/15 | RNAV (GPS) RWY 36, Amdt 1A.
15-Oct-15 | NJ | Robbinsville | Trenton-Robbinsville | 5/4022 | 08/06/15 | Takeoff Minimums and (Obstacle) DP, Amdt 2.
15-Oct-15 | WI | La Pointe | Major Gilbert Field | 5/4269 | 08/06/15 | RNAV (GPS) RWY 4, Orig.
15-Oct-15 | WI | La Pointe | Major Gilbert Field | 5/4270 | 08/06/15 | RNAV (GPS) RWY 22, Orig-A.
15-Oct-15 | OK | Mangum | Scott Field | 5/4417 | 08/24/15 | RNAV (GPS) RWY 17, Amdt 1.
15-Oct-15 | OK | Mangum | Scott Field | 5/4425 | 08/24/15 | RNAV (GPS) RWY 35, Amdt 1.
15-Oct-15 | NE | Beatrice | Beatrice Muni | 5/4566 | 08/24/15 | RNAV (GPS) RWY 14, Amdt 1A.
15-Oct-15 | NE | Beatrice | Beatrice Muni | 5/4567 | 08/24/15 | RNAV (GPS) RWY 32, Amdt 1A.
15-Oct-15 | NE | Beatrice | Beatrice Muni | 5/4569 | 08/24/15 | VOR RWY 14, Amdt 18A.
15-Oct-15 | AK | Kivalina | Kivalina | 5/4604 | 08/10/15 | Takeoff Minimums and (Obstacle) DP, Orig.
15-Oct-15 | MN | Faribault | Faribault Muni | 5/4620 | 08/24/15 | VOR-A, Amdt 6.
15-Oct-15 | AL | Mobile | Mobile Downtown | 5/4831 | 08/12/15 | VOR RWY 18, Amdt 2.
15-Oct-15 | OK | Ardmore | Ardmore Downtown Executive | 5/5003 | 08/06/15 | RNAV (GPS) RWY 17, Orig-A.
15-Oct-15 | MI | Muskegon | Muskegon County | 5/5006 | 08/06/15 | RNAV (GPS) RWY 14, Amdt 1.
15-Oct-15 | OH | Mansfield | Mansfield Lahm Rgnl | 5/5009 | 08/06/15 | RNAV (GPS) RWY 23, Orig.
15-Oct-15 | OH | Mansfield | Mansfield Lahm Rgnl | 5/5014 | 08/06/15 | RNAV (GPS) RWY 32, Orig-C.
15-Oct-15 | IL | Dixon | Dixon Muni-Charles R Walgreen Field | 5/5030 | 08/06/15 | RNAV (GPS) RWY 8, Amdt 1A.
15-Oct-15 | IL | Dixon | Dixon Muni-Charles R Walgreen Field | 5/5032 | 08/06/15 | VOR-A, Amdt 10A.
15-Oct-15 | IL | Dixon | Dixon Muni-Charles R Walgreen Field | 5/5033 | 08/06/15 | RNAV (GPS) RWY 26, Orig-A.
15-Oct-15 | WY | Worland | Worland Muni | 5/5173 | 08/06/15 | VOR RWY 16, Amdt 6A.
15-Oct-15 | WY | Worland | Worland Muni | 5/5174 | 08/06/15 | RNAV (GPS) RWY 16, Orig-A.
15-Oct-15 | WY | Worland | Worland Muni | 5/5175 | 08/06/15 | RNAV (GPS) RWY 34, Orig-A.
15-Oct-15 | SC | Orangeburg | Orangeburg Muni | 5/5199 | 08/06/15 | RNAV (GPS) RWY 17, Orig-A.
15-Oct-15 | FL | Miami | Miami Intl | 5/5231 | 08/13/15 | RNAV (GPS) RWY 8L, Amdt 2.
15-Oct-15 | WY | Greybull | South Big Horn County | 5/5658 | 08/06/15 | RNAV (GPS) RWY 7, Orig-B.
15-Oct-15 | WY | Greybull | South Big Horn County | 5/5662 | 08/06/15 | RNAV (GPS) RWY 34, Amdt 1B.
15-Oct-15 | WY | Greybull | South Big Horn County | 5/5663 | 08/06/15 | NDB RWY 34, Amdt 3A.
15-Oct-15 | FL | St Augustine | Northeast Florida Rgnl | 5/5849 | 08/24/15 | ILS OR LOC/DME RWY 31, Orig-B.
15-Oct-15 | FL | St Augustine | Northeast Florida Rgnl | 5/5850 | 08/24/15 | RNAV (GPS) RWY 13, Orig-C.
15-Oct-15 | GA | Millen | Millen | 5/5907 | 08/24/15 | RNAV (GPS) RWY 35, Amdt 1A.
15-Oct-15 | KY | Louisville | Louisville Intl-Standiford Field | 5/6011 | 08/24/15 | RNAV (GPS) RWY 29, Orig-A.
15-Oct-15 | KY | Louisville | Louisville Intl-Standiford Field | 5/6012 | 08/24/15 | RNAV (GPS) Y RWY 17L, Amdt 1B.
15-Oct-15 | KY | Louisville | Louisville Intl-Standiford Field | 5/6015 | 08/24/15 | RNAV (GPS) Y RWY 17R, Amdt 1B.
15-Oct-15 | KY | Louisville | Louisville Intl-Standiford Field | 5/6016 | 08/24/15 | RNAV (GPS) Y RWY 35L, Amdt 1A.
15-Oct-15 | KY | Louisville | Louisville Intl-Standiford Field | 5/6017 | 08/24/15 | RNAV (GPS) Y RWY 35R, Amdt 1B.
15-Oct-15 | KY | Louisville | Louisville Intl-Standiford Field | 5/6018 | 08/24/15 | ILS OR LOC RWY 35L, ILS RWY 35L (SA CAT I), ILS RWY 35L (CAT II & III), Amdt 3C.
15-Oct-15 | KY | Louisville | Louisville Intl-Standiford Field | 5/6021 | 08/24/15 | ILS OR LOC RWY 35R , ILS RWY 35R (SA CAT I), ILS RWY 35R (CAT II & III), Amdt 4C.
15-Oct-15 | KY | Louisville | Louisville Intl-Standiford Field | 5/6023 | 08/24/15 | ILS OR LOC RWY 17L, Amdt 4C.
15-Oct-15 | KY | Louisville | Louisville Intl-Standiford Field | 5/6024 | 08/24/15 | ILS OR LOC RWY 17R, Amdt 3D.
15-Oct-15 | VA | Norfolk | Norfolk Intl | 5/6033 | 08/20/15 | RNAV (GPS) RWY 14, Orig-D.
15-Oct-15 | LA | Baton Rouge | Baton Rouge Metropolitan, Ryan Field | 5/6037 | 08/24/15 | VOR RWY 4L, Amdt 18.
15-Oct-15 | WI | Appleton | Outagamie County Regional | 5/6205 | 08/24/15 | ILS OR LOC RWY 3, Amdt 17B.
15-Oct-15 | WI | Appleton | Outagamie County Regional | 5/6206 | 08/24/15 | ILS OR LOC RWY 30, Amdt 3A.
15-Oct-15 | WI | Appleton | Outagamie County Regional | 5/6208 | 08/24/15 | RNAV (GPS) RWY 12, Amdt 1.
15-Oct-15 | WI | Appleton | Outagamie County Regional | 5/6212 | 08/24/15 | RNAV (GPS) RWY 3, Amdt 1.
15-Oct-15 | WI | Appleton | Outagamie County Regional | 5/6213 | 08/24/15 | RNAV (GPS) RWY 30, Amdt 1.
15-Oct-15 | WI | Appleton | Outagamie County Regional | 5/6216 | 08/24/15 | VOR/DME RWY 3, Amdt 8F.
15-Oct-15 | IL | Effingham | Effingham County Memorial | 5/6336 | 08/24/15 | RNAV (GPS) RWY 1, Orig-B.
15-Oct-15 | IL | Effingham | Effingham County Memorial | 5/6337 | 08/24/15 | RNAV (GPS) RWY 29, Orig-A.
15-Oct-15 | IL | Effingham | Effingham County Memorial | 5/6339 | 08/24/15 | VOR RWY 1, Amdt 10B.
15-Oct-15 | NC | Wilson | Wilson Industrial Air Center | 5/6435 | 08/24/15 | RNAV (GPS) RWY 21, Orig-D.
15-Oct-15 | NC | Wilson | Wilson Industrial Air Center | 5/6443 | 08/24/15 | RNAV (GPS) RWY 3, Amdt 1B.
15-Oct-15 | MT | Stevensville | Stevensville | 5/6652 | 08/12/15 | RNAV (GPS)-A, Orig-A.
15-Oct-15 | TN | Morristown | Moore-Murrell | 5/6732 | 08/12/15 | RNAV (GPS) RWY 5, Orig-B.
15-Oct-15 | TN | Morristown | Moore-Murrell | 5/6756 | 08/12/15 | RNAV (GPS) RWY 23, Orig-C.
15-Oct-15 | TN | Morristown | Moore-Murrell | 5/6758 | 08/12/15 | NDB RWY 5, Amdt 5B.
15-Oct-15 | TN | Morristown | Moore-Murrell | 5/6759 | 08/12/15 | SDF RWY 5, Amdt 5B.
15-Oct-15 | WV | Logan | Logan County | 5/6766 | 08/12/15 | RNAV (GPS) RWY 6, Orig-A.
15-Oct-15 | WV | Logan | Logan County | 5/6768 | 08/12/15 | RNAV (GPS) RWY 24, Orig-A.
15-Oct-15 | ME | Old Town | Dewitt Fld, Old Town Muni | 5/6882 | 08/24/15 | VOR/DME RWY 22, Amdt 5A.
15-Oct-15 | OR | Portland | Portland Intl | 5/7120 | 08/12/15 | RNAV (RNP) Z RWY 28R, Amdt 1A.
15-Oct-15 | WY | Saratoga | Shively Field | 5/7337 | 08/10/15 | RNAV (GPS)-B, Orig-A.
15-Oct-15 | WY | Saratoga | Shively Field | 5/7338 | 08/10/15 | NDB-A, Amdt 1A.
15-Oct-15 | WY | Saratoga | Shively Field | 5/7342 | 08/10/15 | RNAV (GPS) RWY 5, Orig-A.
15-Oct-15 | WY | Casper | Casper/Natrona County Intl | 5/7434 | 08/06/15 | VOR/DME RWY 3, Amdt 6A.
15-Oct-15 | CA | Long Beach | Long Beach/Daugherty Field/ | 5/7435 | 08/06/15 | RNAV (RNP) RWY 12, Amdt 1A.
15-Oct-15 | MD | Cumberland | Greater Cumberland Rgnl | 5/7472 | 08/13/15 | RNAV (GPS) RWY 23, Orig-C.
15-Oct-15 | IA | Mason City | Mason City Muni | 5/7795 | 08/20/15 | RNAV (GPS) RWY 30, Amdt 1A.
15-Oct-15 | IA | Mason City | Mason City Muni | 5/7797 | 08/20/15 | VOR/DME RWY 18, Amdt 5A.
15-Oct-15 | IA | Mason City | Mason City Muni | 5/7801 | 08/20/15 | VOR RWY 36, Amdt 6D.
15-Oct-15 | MT | Miles City | Frank Wiley Field | 5/7812 | 08/10/15 | RNAV (GPS) RWY 4, Amdt 2A.
15-Oct-15 | MT | Miles City | Frank Wiley Field | 5/7814 | 08/10/15 | RNAV (GPS) RWY 22, Orig-B.
15-Oct-15 | MT | Miles City | Frank Wiley Field | 5/7815 | 08/10/15 | VOR/DME RWY 22, Amdt 8B.
15-Oct-15 | MT | Miles City | Frank Wiley Field | 5/7816 | 08/10/15 | VOR/DME RWY 4, Orig-A.
15-Oct-15 | MT | Miles City | Frank Wiley Field | 5/7818 | 08/10/15 | VOR RWY 4, Amdt 12A.
15-Oct-15 | TX | Baytown | RWJ Airpark | 5/7916 | 08/20/15 | RNAV (GPS) RWY 26, Amdt 1A.
15-Oct-15 | FL | Jacksonville | Jacksonville Intl | 5/7930 | 08/13/15 | RNAV (GPS) Z RWY 32, Amdt 2C.
15-Oct-15 | TX | Baytown | RWJ Airpark | 5/7933 | 08/20/15 | RNAV (GPS) RWY 32, Orig.
15-Oct-15 | LA | Vivian | Vivian | 5/8309 | 08/10/15 | RNAV (GPS) RWY 9, Orig-A.
15-Oct-15 | LA | Vivian | Vivian | 5/8310 | 08/10/15 | RNAV (GPS) RWY 27, Orig-A.
15-Oct-15 | LA | Vivian | Vivian | 5/8311 | 08/10/15 | VOR/DME-A, Amdt 3A.
15-Oct-15 | LA | Vivian | Vivian | 5/8312 | 08/10/15 | NDB RWY 9, Amdt 2A.
15-Oct-15 | AK | Coldfoot | Coldfoot | 5/8694 | 08/06/15 | RNAV (GPS)-A, Orig-A.
15-Oct-15 | UT | Cedar City | Cedar City Rgnl | 5/8854 | 08/07/15 | ILS OR LOC RWY 20, Amdt 3C.
15-Oct-15 | NM | Carlsbad | Cavern City Air Trml | 5/8920 | 08/13/15 | RNAV (GPS) RWY 32L, Amdt 1A.
15-Oct-15 | AK | Palmer | Palmer Muni | 5/9044 | 08/07/15 | RNAV (GPS)-A, Orig.
15-Oct-15 | AK | Palmer | Palmer Muni | 5/9045 | 08/07/15 | RNAV (GPS) RWY 9, Amdt 1A.
15-Oct-15 | NC | Roanoke Rapids | Halifax-Northampton Rgnl | 5/9599 | 08/10/15 | RNAV (GPS) RWY 20, Amdt 1A.

[FR Doc. 2015-22009 Filed 9-4-15; 8:45 am]

BILLING CODE 4910-13-P